DEPARTMENT OF THE INTERIOR

Fish and Wildlife Service

[FWS-HQ-IA-2012-N223; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
75399A | Eric Moore | 77 FR 34059; June 8, 2012 | August 15, 2012.
76196A | Eric Anderson | 77 FR 36571; June 19, 2012 | July 25, 2012.
76255A | Jayson Anderson | 77 FR 36571; June 19, 2012 | July 25, 2012.
76254A | Joshua Anderson | 77 FR 36571; June 19, 2012 | July 25, 2012.
844694 | Southwest Fisheries Science Center | 77 FR 36571; June 19, 2012 | August 30, 2012.
76564A | Richard McNeely | 77 FR 38652; June 28, 2012 | August 15, 2012.
76856A | William Akin | 77 FR 38652; June 28, 2012 | August 13, 2012.
78581A | Kevin Perry | 77 FR 41198; July 12, 2012 | August 15, 2012.
78569A | Charles Nace | 77 FR 41198; July 12, 2012 | August 22, 2012.
74896A | Riverbanks Zoo and Garden | 77 FR 46514; August 3, 2012 | August 27, 2012.

Marine Mammals
Permit No. | Applicant | Receipt of application Federal Register notice | Permit issuance date
045447 | Terrie M. Williams, University of California | 77 FR 41198; July 12, 2012 | August 27, 2012.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2012-23264 Filed 9-19-12; 8:45 am]

BILLING CODE 4310-55-P